DEPARTMENT OF TRANSPORTATION

National Highway Traffic Safety Administration

Petition To Modify an Exemption of a Previously Approved Antitheft Device; General Motors Corporation

AGENCY: National Highway Traffic Safety Administration (NHTSA) Department of Transportation (DOT).

ACTION: Grant of a petition to modify an exemption from the Parts Marking Requirements of a previously approved antitheft device.

SUMMARY: On March 26, 1992, this agency granted in part the General Motors Corporation's (GM) petition for exemption from the parts marking requirements of the vehicle theft prevention standard for the Buick LeSabre vehicle line. On June 2, 1999, this agency granted in full GM's petition for modification of the previously approved antitheft device for the Buick LeSabre vehicle line. This notice grants in full GM's second petition to modify the exemption of the previously approved antitheft device for the Buick LeSabre vehicle line beginning with model year (MY) 2006. This notice also acknowledges GM's notification that the nameplate for the Buick LeSabre vehicle line will be changed to Buick Lucerne beginning with the 2006 model year. NHTSA is granting GM's petition to modify the exemption because it has determined, based on substantial evidence, that the modified antitheft device described in GM's petition to be placed on the vehicle line as standard equipment, is likely to be as effective in reducing and deterring motor vehicle theft as compliance with the parts-marking requirements.

DATES: The exemption granted by this notice is effective beginning with model year (MY) 2006.

FOR FURTHER INFORMATION CONTACT: Ms. Rosalind Proctor, Office of International Policy, Fuel Economy and Consumer Programs, NHTSA, 400 Seventh Street, SW., Washington, DC 20590. Ms. Proctor's telephone number is (202) 366-0846. Her fax number is (202) 493-2290.

SUPPLEMENTARY INFORMATION: On March 26, 1992, NHTSA published in the Federal Register a notice granting in part the petition from GM for an exemption from the parts-marking requirements of the Theft Prevention Standard (49 CFR 541) for the MY 1993 Buick LeSabre vehicle line. The LeSabre was equipped with the “PASS-Key II” antitheft device (See 57 FR 10517). On June 2, 1999, NHTSA published in the Federal Register a notice granting in full GM's petition for modification of the previously approved antitheft device for the Buick LeSabre vehicle line beginning with the 2000 model year. The LeSabre was equipped with the “PASS-Key III” antitheft device (See 64 FR 29736). On November 4, 2004, GM submitted a second petition to modify an exemption of its existing antitheft device. GM's submission is a complete petition, as required by 49 CFR part 543.9(d), in that it meets the general requirements contained in 49 CFR part 543.5 and the specific content requirements of 49 CFR part 543.6. GM's petition provides a detailed description of the identity, design and location of the components of the antitheft system proposed for installation beginning with the 2006 model year.

GM's petition also informed the agency of its planned nameplate change for the Buick LeSabre to the Buick Lucerne nameplate beginning with the 2006 model year. GM stated that the Buick Lucerne will continue to be built on the existing “H” car platform from which the Buick LeSabre line is currently built.

The current antitheft device (“PASS-Key III”) installed on the Buick LeSabre vehicle line provides protection against unauthorized starting and fueling of the vehicle engine. GM stated that its antitheft device is designed to be active at all times without direct intervention by the vehicle operator and, that no specific or discrete security system action is necessary to achieve protection of the device. The device is fully armed immediately after the vehicle has been turned off and the key has been removed.

The PASS-Key III device utilizes a special ignition key and decoder module. The mechanical code of the key unlocks and releases the transmission lever. The vehicle can only be operated when the key's electrical code is sensed by the key cylinder and properly decoded by the controller module.

The ignition key contains electronics in the key head that receives energy from the controller module. Upon receipt of the data from the controller module, the key transmits a unique code through low frequency transmission. The controller module translates the received signal from the key into a digital signal which is transmitted to the body control module (BCM). The received signal is compared to an internally stored value by the BCM. If the values match, the key is recognized as valid and a vehicle security password is transmitted through data link to the engine control module to enable fuel and starting of the vehicle.

In GM's petition to modify its exemption, it stated that its Buick Lucerne vehicle line will be equipped with the PASS-Key III+ theft deterrent system for MY 2006. The PASS-Key III+ device will continue to provide protection against unauthorized starting and fueling of the vehicle engine. Components of the modified antitheft device include a special ignition key and decoder module. The conventional mechanical code of the key will continue to unlock and releases the transmission lever. Before the vehicle can be operated, the key's electrical code must be sensed and properly decoded by the PASS-Key III+ control module. The ignition key contains electronics molded in to the key head. These electronics receive energy and data from the control module. Upon receipt of the data, the key will calculate a response to the data using secret information and an internal encryption algorithm and transmit the response back to the vehicle. The controller module translates the radio frequency signal received from the key into a digital signal and compares the received response to an internally calculated value. If the values match, the key is recognized as valid, and a vehicle security password (one of 65,534), is transmitted through a serial data link to the powertrain control module to enable fuel and starting of the vehicle. If an invalid key code is received, the PASS-Key III+ controller module will send a disable password to the powertrain control module through the serial data bus, and the ignition and fuel systems will be inhibited. GM also stated that the PASS-Key III+ device has the capability for producing billions of codes, which will require centuries to scan to allow someone to steal a vehicle.

GM stated that although it's modified antitheft device provides protection against unauthorized starting and fueling of the vehicle, it does not provide any visible or audible indication of unauthorized entry by means of flashing vehicle lights or sounding of the horn. Since the system is fully operational once the vehicle has been turned off, specific visible or audible reminders beyond key removal reminders have not been provided.

Based on comparison of the reduction in the theft rates of GM vehicles using a passive theft deterrent device with an audible/visible alarm system to the reduction in theft rates for GM vehicle models equipped with a passive antitheft device without an alarm, GM finds that the lack of an alarm or attention attracting device does not compromise the theft deterrent performance of a system such as PASS-Key III+. The agency has previously agreed with the finding that the absence of a visible or audible alarm has not prevented these antitheft devices from being effective protection against theft.

In order to ensure the reliability and durability of the device, GM conducted tests based on its own specified standards. GM provided a detailed list of tests conducted and believes that its device is reliable and durable since the device complied with its specified requirements for each test. The tests conducted included high and low temperature storage, thermal shock, humidity, frost, salt fog, flammability, altitude, drop, shock, random vibration, dust, potential contaminants, connector retention/strain relief, terminal retention, connector insertion, crush, ice, immersion and tumbling. Additionally, GM stated that the design and assembly processes of the PASS-Key III+ device and components are validated for a vehicle life of 10 years and 150,000 miles of performance.

GM compared its MY 2006 antitheft device with devices which NHTSA has already determined to be as effective in reducing and deterring motor vehicle theft as would compliance with the parts-marking requirements. To substantiate its beliefs as to the effectiveness of the new device, GM compared the MY 2006 modified device to its “PASS-Key”-like systems. GM indicated that the theft rates, as reported by the Federal Bureau of Investigation's National Crime Information Center, are lower for GM models equipped with the “PASS-Key”-like systems which have exemptions from the parts-marking requirements of 49 CFR part 541, than the theft rates for earlier models with similar appearance and construction which were parts-marked. Based on the performance of the PASS-Key, PASS-Key II, and PASS-Key III systems on other GM models, and the advanced technology utilized by the modification, GM believes that the MY 2006 modified antitheft device will be more effective in deterring theft than the parts-marking requirements of 49 CFR part 541.

On the basis of this comparison, the antitheft device (PASS-Key III+) for model years 2006 and later will provide essentially the same functions and features as found on its MY 1993-2005 “PASS-Key”-like devices and therefore, its modified device will provide at least the same level of theft prevention as parts-marking. GM believes that the antitheft device proposed for installation on its MY 2006 Buick Lucerne vehicle line is likely to be as effective in reducing thefts as compliance with the parts-marking requirements of part 541.

The agency has evaluated GM's MY 2006 petition to modify the exemption for the Buick Lucerne vehicle line from the parts-marking requirements of 49 CFR Part 541, and has decided to grant it. It has determined that the PASS-Key III+ system is likely to be as effective as parts-marking in preventing and deterring theft of these vehicles, and therefore qualifies for an exemption under 49 CFR part 543. The agency believes that the modified device will continue to provide four of the five types of performance listed in Section 543.6(b)(3): promoting activation; preventing defeat or circumventing of the device by unauthorized persons; preventing operation of the vehicle by unauthorized entrants; and ensuring the reliability and durability of the device.

NHTSA suggests that if the manufacturer contemplates making any changes the effects of which might be characterized as de minimis, it should consult the agency before preparing and submitting a petition to modify.

Authority: 49 U.S.C. 33106; delegation of authority at 49 CFR 1.50.

Issued on: March 4, 2005.
Stephen R. Kratzke,
Associate Administrator for Rulemaking.

[FR Doc. 05-5036 Filed 3-14-05; 8:45 am]

BILLING CODE 4910-59-P